DEPARTMENT OF AGRICULTURE

Rural Business-Cooperative Service

Notice of Solicitation of Applications for the Repowering Assistance Program

AGENCY: Rural Business-Cooperative Service, USDA.

ACTION: Notice.

SUMMARY: This Notice announces the solicitation of applications for up to $5 Million of available funding under the Repowering Assistance Program to encourage the use of renewable biomass as a replacement fuel source for fossil fuels used to provide process heat or power in the operation of eligible biorefineries. To be eligible for payments, biorefineries must have been in existence on or before June 18, 2008.

DATES: Applications will be accepted from April 20, 2018 through July 19, 2018. Applications received after July 19, 2018, regardless of their postmark, will not receive consideration. If the actual deadline falls on a weekend or a federally-observed holiday, the deadline is the next Federal business day.

ADDRESSES: Applications and forms may be obtained from:

• USDA, Rural Business-Cooperative Service, Energy Division, Attention: Repowering Assistance Program, 1400 Independence Avenue SW, STOP 3225, Washington, DC 20250-3225.

• Agency website: http://forms.sc.egov.usda.gov/eForms. Follow instructions for obtaining the application and forms. Application materials can also be obtained from the Agency's website. http://www.rd.usda.gov/programs-services/repowering-assistance-program.

FOR FURTHER INFORMATION CONTACT: For further information on this payment program, please contact Fred Petok, USDA, Rural Business-Cooperative Service, Energy Division, 1400 Independence Avenue SW, Room 6870, STOP 3225, Washington, DC 20250-3225. Telephone: 202-690-0784. Email: frederick.petok@wdc.usda.gov.

SUPPLEMENTARY INFORMATION:

Preface

The Agency encourages applications that will support recommendations made in the Rural Prosperity Task Force report to help improve life in rural America (www.usda.gov/ruralprosperity). Applicants are encouraged to consider projects that provide measurable results in helping rural communities build robust and sustainable economies through strategic investments in infrastructure, partnerships, and innovation. Key strategies include:

• Achieving e-Connectivity for Rural America

• Developing the Rural Economy

• Harnessing Technological Innovation

• Supporting a Rural Workforce

• Improving Quality of Life

Paperwork Reduction Act

In accordance with the Paperwork Reduction Act of 1995, the information collection requirements associated with the Section 9004 Repowering Assistance Program, as covered in this Notice, have been approved by the Office of Management and Budget (OMB) under OMB Control Number 0570-0066.

Overview

Federal Agency Name: Rural Business-Cooperative Service (an agency of the United States Department of Agriculture (USDA) in the Rural Development mission area).

Payment Proposal Title: Repowering Assistance Program.

Announcement Type: Notice of Solicitation of Applications.

Catalog of Federal Domestic Assistance (CFDA) Number. The CFDA number for this Notice is 10.866.

Dates: To receive funding consideration, applications must be received in the USDA Rural Business-Cooperative Service, Energy Division no later than 4:30 p.m. Eastern Daylight Time on July 19, 2018. Any application received after 4:30 p.m. Eastern Daylight Time on July 19, 2018, will not compete for funds announced in this Notice.

Availability of Notice and Rule. This Notice and the interim rule for the Repowering Assistance Program are available on the USDA Rural Development website at http://www.rd.usda.gov/programs-services/repowering-assistance-program and at http://www.rd.usda.gov/newsroom.

I. Funding Opportunity Description

A. Purpose of the Program. The purpose of this program is to provide financial incentives to biorefineries in existence on or before June 18, 2008 (the date of the enactment of the Food, Conservation, and Energy Act of 2008 (the 2008 Farm Bill, Pub. L. 110-234) to replace the use of fossil fuels used to produce heat or power at their facilities by installing new systems that use renewable biomass, or to produce new energy from renewable biomass.

B. Statutory Authority. This Program is authorized under 7 U.S.C. 8104. Regulations are contained in 7 CFR part 4288, subpart A.

C. Definition of Terms. The definitions applicable to this Notice are published at 7 CFR 4288.2.

D. Application Awards. The Agency will review, evaluate, and award applications received in response to this Notice based on the provisions found in 7 CFR part 4288, subpart A.

II. Award Information

A. Available Funds. The Agency is authorizing up to $5 million for this program in FY 2018.

B. Number of Payments. The number of payments will depend on the number of participating biorefineries.

C. Amount of Payments. The Agency will determine the amount of payments to be made to a biorefinery in accordance with its regulations at 7 CFR part 4288, subpart A, which take into consideration the percentage reduction in fossil fuel used by the biorefinery (including the quantity of fossil fuels a renewable biomass system is replacing) and the cost and cost-effectiveness of the renewable biomass system.

D. Payment Limitations. There is no minimum payment amount that an individual biorefinery can receive. The maximum amount an individual biorefinery can receive under this Notice is 50 percent of total eligible project costs up to a maximum of $2 million.

E. Project Costs. Eligible project costs, in accordance with 7 CFR 4288.11, will be only for project related construction costs for repowering improvements associated with the equipment, installation, engineering, design, site plans, associated professional fees, permits and financing fees. Any project costs incurred by the applicant prior to application for payment assistance under this Notice will be ineligible for payment assistance.

F. Type of Instrument. Payment agreement.

III. Eligibility Information

A. Eligible Applicants. Applicant eligibility requirements are found in 7 CFR 4288.10. Among other things, to be eligible for this program, an applicant must be a biorefinery that has been in existence on or before June 18, 2008, and will utilize renewable biomass to replace fossil fuel for repowering the biorefinery.

B. Ineligible Projects. In accordance with 7 CFR 4288.10(b), a project is not eligible under this Notice if it is using feedstocks for repowering that are feed grain commodities that received benefits under Title I of the Food, Conservation, and Energy Act of 2008. Similarly, in accordance with 7 CFR 4288.10(a)(3) and 7 CFR 4288.10(a)(4) projects that do not score the minimum 5 points for cost-effectiveness and percentage of reduction of fossil fuel used, as outlined in 7 CFR 4288.21(b) will be deemed ineligible.

IV. Multiple Submissions

In accordance with 7 CFR 4288.10(a)(2), Corporations and entities with more than one biorefinery can submit an application for only one of their biorefineries. However, if a corporation or entity has multiple biorefineries located at the same location, the entity may submit an application that covers such biorefineries provided the heat and power used in the multiple biorefineries are centrally produced.

V. Scoring Advice

A. Cost Effectiveness. To be eligible and meet the minimum scoring criteria, the project must have a simple payback period of no more than 10 years (i.e., must be awarded at least five points for cost-effectiveness under 7 CFR 4288.21(b)(1)).

B. Percentage of Reduction of Fossil Fuel Used. To be eligible and meet the minimum scoring criteria, the applicant must demonstrate that the repowering project has an anticipated annual reduction in fossil fuel use of at least 40 percent (i.e., the application must be awarded at least five points for percentage of reduction of fossil fuel used under 7 CFR 4288.21(b)(2)).

VI. Project Financing

The applicant must demonstrate that it has sufficient funds or has obtained commitments for sufficient funds to complete the repowering project, taking into account the amount of the payment request in the application.

VII. Application and Submission Information

A. To Request Applications. Application forms are available from the USDA Rural Development State Office, State Energy Coordinator, and the Agency website found at http://forms.sc.egov.usda.gov. Follow instructions on the Agency website for obtaining the application and forms. http://www.rd.usda.gov/programs-services/repowering-assistance-program.

B. Content and Form of Submission. Applicants must submit a signed original and one copy of an application containing all the information specified in 7 CFR 4288.20(b) and (c).

C. Submission Dates and Times. Applications to participate in this program must be submitted between April 20, 2018 and July 19, 2018. Applications received after 4:30 p.m. Eastern Daylight Time July 19, 2018, regardless of their postmark, will not be considered by the Agency for funding consideration.

D. Submission Instructions. Two copies of the application materials should be submitted to: USDA Rural Business-Cooperative Service, Energy Division, Attention: Repowering Assistance Program, 1400 Independence Avenue SW, Room 6901, STOP 3225, Washington, DC 20250-3225.

E. Payment Provisions. Payments will be made according to the provisions specified in 7 CFR 4288.13(b) and (c) and in 7 CFR 4288.24.

VIII. Application Review and Selection Information

The Agency will evaluate projects based on the cost, cost-effectiveness, and capacity of projects to reduce fossil fuels used.

A. Review. The Agency will review applications submitted under this Notice in accordance with 7 CFR 4288.21(a).

B. Scoring. The Agency will score applications submitted under this Notice in accordance with 7 CFR 4288.21(b).

C. Ranking and Selecting Applications. The Agency will consider the score an application has received compared to the scores of other applications, with higher scoring applications receiving first consideration for payments. Using the application scoring criteria point values specified in 7 CFR 4288.21, the Agency will select applications for payments.

D. Availability of Funds. As applications are funded, if insufficient funds remain to pay the next highest scoring application, the Agency may elect to pay a lower scoring application. Before this occurs, the Agency will provide the applicant of the higher scoring application the opportunity to reduce the amount of its payment request to the amount of funds available. If the applicant agrees to lower its payment request, it must certify that the purposes of the project can be met, and the Agency must determine the project is feasible at the lower amount.

IX. Administration Information

A. Notice of Eligibility. The provisions of 7 CFR 4288.23 apply to this Notice. These provisions include notifying an applicant determined to be eligible for participation and notifying an applicant determined to be ineligible, including their application score and ranking and the score necessary to qualify for payments.

B. Administrative and National Policy Requirements.

(1) Review or Appeal Rights. A person may seek a review of an Agency adverse decision or appeal to the National Appeals Division as provided in 7 CFR 4288.3.

(2) Compliance with Other Laws and Regulations. The provisions of 7 CFR 4288.4 apply to this Notice, which includes requiring participating biorefineries to be in compliance with other applicable Federal, State, and local laws.

(3) Oversight and Monitoring. The provisions of 7 CFR 4288.5(a) and (b) apply to this Notice, which includes the right of the Agency to verify all payment applications and subsequent payments and the requirement that each biorefinery must make available, at one place at all reasonable times for examination by the Agency, all books, documents, papers, receipts, payroll records, and bills of sale adequate to identify the purposes for which, and the manner in which, funds were expended for all eligible project costs for a period of not less than 3 years from the final payment date.

(4) Reporting. Upon completion of the repowering project funded under this Notice, the biorefinery must submit a report, in accordance with 7 CFR 4288.5(c), to the Agency annually for the first 3 years after completion of the project. The reports are to be submitted as of October 1 of each year.

(5) Exception Authority. The provisions of 7 CFR 4288.7 apply to this Notice.

(6) Succession and Control of Facilities and Production. The provisions of 7 CFR 4288.25 apply to this Notice.

C. Environmental Review. All recipients under this Notice are subject to the requirements of 7 CFR part 1970 or successor regulation.

X. Agency Contacts

For further information about this Notice, please contact Fred Petok, USDA, Rural Business—Cooperative Service, Energy Division, 1400 Independence Avenue SW, Room 6870, STOP 3225, Washington, DC 20250-3225. Telephone: 202-690-0784. Email: frederick.petok@wdc.usda.gov.

XI. Nondiscrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410;

(2) Fax: (202) 690-7442; or

(3) Email: program.intake@usda.gov.

USDA is an equal opportunity provider, employer, and lender.

Dated: April 16, 2018.
Bette B. Brand,
Administrator, Rural Business-Cooperative Service.

[FR Doc. 2018-08298 Filed 4-19-18; 8:45 am]

BILLING CODE 3410-XY-P